DEPARTMENT OF THE INTERIOR

National Park Service

Notice of Submission of Study Package to Office of Management and Budget; Opportunity for Public Comment

AGENCY: National Park Service and Hopewell Culture National Historical Park, Department of the Interior.

ACTION: Notice and request for comments.

ABSTRACT: The National Park Service is conducting a study to assess the attitudes and perceptions of community members regarding the significance of archeological resources at Hopewell Culture National Historical Park (HOCU) and in southern Ohio. This information will be used to help the staff at HOCU evaluate the effectiveness of its outreach program and to modify and improve the Park's outreach efforts. The following specific study objectives have been identified:

1. Determine community attitudes towards the perceived significance and importance of the park's archeological resources;

2. Determine the effect of the park's outreach program on the attitudes of people in the community regarding archeological resources;

3. Determine community awareness of visitor services offered at the park;

4. Determine potential benefits of the park to the community;

5. Determine the importance and value of archeology to community members;

6. Determine community perspectives concerning the protection of archeological sites.

SUMMARY: Under the provisions of the Paperwork Reduction Act of 1995 and 5 CFR part 1320, Reporting and Record Keeping Requirements, the NPS invites public comment on the proposed information collection request (ICR). Comments are invited on: (1) The need for the information including whether the information has practical utility; (2) the accuracy of the reporting burden estimate; (3) ways to enhance the quality, utility, and clarity of the information to be collected; and (4) ways to minimize the burden of the information collection on respondents, including the use of automated collection techniques or other forms of information technology. The purpose of the proposed ICR is to assess the attitudes and perceptions of community members concerning the importance of archeological resources at HOCU and in southern Ohio. This information will be used to help the staff at HOCU enhance the effectiveness of their outreach programs to better educate the public about the importance of cultural resources in the region. There were no public comments received as a result of publishing in the Federal Register a 60-day notice of intention to request clearance of information collection for this survey.

DATES: Public comments will be accepted on or before February 5, 2001.

Send Comments to: Office of Information and Regulatory Affairs of OMB, Attention Desk Officer for the Interior Department, Office of Management and Budget, Washington, DC 20530. Please also send comments to Dorothy H. Anderson, Ph.D., Professor and Program Leader, Cooperative Park Studies Program, Department of Forest Resources, University of Minnesota, 115 Green Hall, 1530 Cleveland Ave. N., St. Paul, MN 55108-6124.

The OMB has up to 60 days to approve or disapprove the information collection but may respond after 30 days. Therefore, to ensure maximum consideration, OMB should receive public comments within thirty days of the date on which this notice is published in the Federal Register.

FOR FURTHER INFORMATION CONTACT: For a copy of the study package submitted for OMB review, contact: Dorothy H. Anderson, phone: 612-624-2721.

SUPPLEMENTARY INFORMATION: Title: Hopewell Culture National Historical Park Community Survey.

Form: Not applicable.

OMB Number: To be assigned.

Expiration Date: To be assigned.

Type of Request: Request for new clearance.

Description of Need: The National Park Service needs information concerning public attitudes and perceptions about the significance of archeological resources at Hopewell Culture National Historical Park and southern Ohio. The information is needed to help the staff at HOCU evaluate the effectiveness of its outreach program and to enhance and improve education and interpretation programs offered by the park. The end result will be better management and protection of the park's and the community's cultural resources.

The proposed information to be collected regarding the local public served by this park is not available from existing records, sources, or observations.

Automated Data Collection: At the present time, there is no automated way to gather this information, since it includes asking residents about their attitudes and perceptions related to archeological resources at HOCU.

Description of Respondents: A sample of residents in Ross County, Ohio and the town of Circleville in Pickaway County, Ohio.

Estimated Average Number of Respondents: 500.

Estimated Average Number of Responses: Each respondent will respond only one time, so the number of responses will be the same as the number of respondents.

Estimated Average Burden Hours Per Response: 15 minutes.

Frequency of Response: One time per respondent.

Estimated Annual Reporting Burden: 125 hours.

Dated: December 20, 2000.
Betsy Chittenden,
Information Collection Clearance Officer, WASO Administrative Program Center, National Park Service.

[FR Doc. 01-188 Filed 1-3-01; 8:45 am]

BILLING CODE 4310-70-M